DEPARTMENT OF COMMERCE

National Oceanic and Atmospheric Administration

RIN 0648-XK17

Endangered Species; File No. 13573

AGENCY: National Marine Fisheries Service (NMFS), National Oceanic and Atmospheric Administration (NOAA), Commerce.

ACTION: Notice; receipt of application.

SUMMARY: Notice is hereby given that Michael Salmon, Florida Atlantic University, 777 Glades Road, Boca Raton, Florida 33431-0991, has applied in due form for a permit to take green (Chelonia mydas) sea turtles for purposes of scientific research.

DATES: Written, telefaxed, or e-mail comments must be received on or before October 3, 2008.

ADDRESSES: The application and related documents are available for review upon written request or by appointment in the following offices:

Permits, Conservation and Education Division, Office of Protected Resources, NMFS, 1315 East-West Highway, Room 13705, Silver Spring, MD 20910; phone (301)713-2289; fax (301)427-2521; and

Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 13573.

FOR FURTHER INFORMATION CONTACT: Patrick Opay or Kate Swails, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to study when green sea turtle navigation is guided by magnetic versus solar cues. Animals would be captured by hand, handled, weighed, measured, flipper tagged, passive integrated transponder tagged, transported, temporarily held for experiments in an outdoor tank arena, and released. Researchers would annually capture and conduct research on up to 28 animals on near shore reefs of Palm Beach County, Florida. The permit would be issued for 3 years.

Dated: August 28, 2008.
P. Michael Payne,
Chief, Permits, Conservation and Education Division, Office of Protected Resources, National Marine Fisheries Service.

[FR Doc. E8-20428 Filed 9-2-08; 8:45 am]

BILLING CODE 3510-22-S